DEPARTMENT OF AGRICULTURE

Animal and Plant Health Inspection Service

7 CFR Part 319

Foreign Quarantine Notices

CFR Correction

In Title 7 of the Code of Federal Regulations, parts 300 to 399, revised as of January 1, 2006, in § 319.56-2j paragraph (a)(2)(i) is corrected to read as follows:

§ 319.56-2j Conditions governing the entry of apples and pears from Australia (including Tasmania) and New Zealand.

* * * * *

(a) * * *

(2) * * *

(i) Chamber: ¹

¹ MB=methyl bromide; NAP=normal atmospheric pressure.

MB at NAP | 1½ lb for 2 hours at 80-89 °F.
| 2 lb for 2 hours at 70°-79 °F.
| 2½ lb for 2 hours at 60-69 °F.
| 3 lb for 2 hours at 50-59 °F.
| 4 lb for 2 hours at 40-49 °F.

* * * * *

[FR Doc. 06-55521 Filed 6-19-06; 8:45 am]

BILLING CODE 1505-01-D